DEPARTMENT OF JUSTICE

Antitrust Division

Notice Pursuant to the National Cooperative Research and Production Act of 1933-PXI Systems Alliance, Inc.

Correction

In notice document 2010-12033 appearing on page 28294 in the issue of Thursday, May 20, 2010 make the following correction:

In the second column, in the last paragraph, in the second line “April 1, 2010” should read “April 15, 2010”.

[FR Doc. C1-2010-12033 Filed 8-9-10; 8:45 am]

BILLING CODE 1505-01-D